DEPARTMENT OF THE TREASURY

Internal Revenue Service

Open meeting of the Small Business/Self-Employed Payroll Tax Issue Committee for the Taxpayer Advocacy Panel

AGENCY: Internal Revenue Service (IRS), Treasury.

ACTION: Notice.

SUMMARY: An open meeting of the Small Business/Self-Employed Payroll Tax Issue Committee for the Taxpayer Advocacy Panel will be conducted.

DATES: The meeting will be held Saturday, January 11, 2003.

FOR FURTHER INFORMATION CONTACT: Mary O'Brien at 1-888-912-1227, or (206) 220-6096.

SUPPLEMENTARY INFORMATION: Notice is hereby given pursuant to section 10(a)(2) of the Federal Advisory Committee Act, 5 U.S.C. App. (1988) that an open meeting of the Small Business/Self-Employed Payroll Tax Issue Committee for the Taxpayer Advocacy Panel will be held Saturday, January 11, 2003 from 8 a.m. Central Time to 2 p.m. Central Time at the Hotel Monaco, 333 St. Charles Avenue, New Orleans, LA 70130. The public is invited to make oral comments. Individual comments will be limited to 5 minutes. If you would like to have the TAP consider a written statement, please call 1-888-912-1227 or 206-220-6096, or write to Mary O'Brien, TAP Office, 915 Second Avenue MS W-406, Seattle, WA 98174. Due to limited space, notification of intent to participate in the meeting must be made with Mary O'Brien. Ms. O'Brien can be reached at 1-888-912-1227 or (206) 220-6096.

The agenda will include the following: Various IRS issues.

Note: Last minute changes to the agenda are possible and could prevent effective advance notice.

Dated: December 19, 2002.
Maryclare Whitehead,
Executive Assistant to the National Taxpayer Advocate.

[FR Doc. 02-32455 Filed 12-24-02; 8:45 am]

BILLING CODE 4830-01-P